POSTAL SERVICE

39 CFR Parts 224, 261 through 268

Release of Information and Records Management Changes

AGENCY: Postal Service .

ACTION: Final rule.

SUMMARY: The Postal Service revises organizational names and titles relating to the policies for the release of information and records management, and revises the fee structure relating to the furnishing of documents and records to members of the public under the Freedom of Information Act (FOIA). These revisions (1) Update organizational names and titles that changed as a result of agency restructuring, (2) reflect to whom the public should address issues relating to the release of information and records management, and (3) change the fee structure to permit the recovery of current costs incurred in the furnishing of records to the public.

DATES: This rule is effective September 30, 2003.

FOR FURTHER INFORMATION CONTACT: Robert Faruq at 202-268-2608.

SUPPLEMENTARY INFORMATION:

Background

On August 11, 2003, the Postal Service published a proposed rule in the Federal Register (68 FR 47527). In that notice, we proposed:

• Revising the organizational names and titles in the policies relating to releasing information and managing records.

• Revising the fee structure for furnishing documents and records to members of the public under the Freedom of Information Act (FOIA).

Discussion of Comments

The Postal Service received comments from one party regarding the proposed rule changes.

Comments: The party objected to fee increase amounts, the unification of the rate structure, and the change to half-hour assessments.

Response: The FOIA requires fees to be based upon direct operating costs of providing FOIA services, which recoup full allowable direct costs incurred. The Postal Service has not updated its FOIA fees since 1987, a period of 16 years. During that time, personnel costs have risen substantially.

The fee increases, along with the unification of the rate structure, are based on the weighted average salaries of employees responsible for providing FOIA services. The class of Postal Service personnel providing FOIA services is Executive and Administrative Salary Schedule (EAS) employees, levels EAS 1 through EAS 26. The administrative/clerical and professional/executive categories did not work appropriately in an EAS environment. The levels and job duties performed can vary considerably, such as between Headquarters and field units, with some positions having both administrative and professional aspects. The rate structure for providing FOIA services was unified to appropriately align with Postal Service employee classifications. In addition, this will likely reduce the FOIA fees charged, because most personnel processing FOIAs are EAS positions that more typically would be classified as professional, and thus would assess fees at the higher category.

The use of half-hour increments to assess fees will be easier to implement administratively, and is consistent with other agencies' fee regulations. In addition, on average, FOIA fees should not increase, because charges will be to the nearest half hour, as opposed to being rounded upward. Fees for computer searches were updated to reflect current costs and current technology. Certain computer fees remain charged at 15-minute increments because it is less administratively burdensome to track those time increments for computer searches than for manual searches. Computer personnel fees may involve programming necessary to retrieve data in response to specific requests. Programming varies in degrees of technical complexity, and is reflected in separate fee categories.

Changes to References

After issuing the proposed rule, the Postal Service identified several incorrect references. We corrected those references in this final rule.

List of Subjects

39 CFR Part 224

Organization and functions (Government agencies).

39 CFR Parts 261, 262, and 263

Archives and records.

39 CFR Part 264

Archives and records, Security measures.

39 CFR Part 265

Administrative practice and procedure, Courts, Freedom of information, Government employees.

39 CFR Parts 266 and 268

Privacy.

39 CFR Part 267

Archives and records, Classified information, Privacy, Security measures.

For the reasons stated in the preamble, the Postal Service amends 39 CFR parts 224, 261, and 262 through 268 as follows:

PART 224—[AMENDED]

1. The authority citation for part 224 continues to read as follows:

Authority: 5 U.S.C. App.3; 39 U.S.C. 203, 204, 401(2), 403, 404, 409, 1001; Inspector General Act of 1978, as amended (Pub. L. 95-452, as amended).

§ 224.1 [Amended]

2. Amend § 224.1, as follows:

a. In paragraph (a), remove the words “a Senior Assistant Postmaster General (SAPMG). The group consists of three departments, each headed by an Assistant Postmaster General and the Office of the Treasurer and the Records Office. The SAPMG, Finance, participates in the planning and budget process, and reviews and evaluates the budget requests of each region for the areas under control of the Finance Group.” and add in their place the words “Chief Financial Officer and Executive Vice President. The group includes the following: Vice President, Chief Technology Officer; Vice President, Finance Controller; Vice President, Treasurer; Vice President, Supply Management; Manager, Corporate Financial Planning; Manager, Internal Control; and Manager, Finance Administration.”

b. Remove paragraph (f).

PART 261—[AMENDED]

3. The authority citation part 261 continues to read as follows:

Authority: 39 U.S.C. 401.

§ 261.2 [Amended]

4. In § 261.2, paragraph (b), revise the first sentence to read as follows:

§ 261.2 Authority.

(a) * * *

(b) 39 CFR 262.2 assigns to the Postal Service Records Office, located under the Privacy Office responsibility for the retention, security, and privacy of Postal Service records and the power to authorize the disclosure of such records and to order their disposal by destruction or transfer.* * *

§ 261.4 [Amended]

5. Amend § 261.4 as follows:

a. In paragraph (a), remove the words “manager, Administration and FOIA, under the Chief Financial Officer and Senior Vice President,” and add in their place the words “Manager, Records Office, under the Privacy Office,”.

b. In paragraph (a) remove the word “finance” and add in its place the words “Consumer Affairs”.

c. Revise paragraph (b) to read as follows:

§ 261.4 Responsibility.

(a) * * *

(b) The Chief Privacy Officer, under the Vice President and Consumer Advocate, is responsible for administering records and information management policies and for the compliance of all handbooks, directives, and instructions in support of this policy.

* * * * *

PART 262—[AMENDED]

6. The authority citation for part 262 continues to read as follows:

Authority: 5 U.S.C. 552, 552a; 39 U.S.C. 401.

§ 262.2 [Amended]

7. Amend § 262.2 as follows:

a. Redesignate paragraphs (a), (c), and (d) as paragraphs (c), (d), and (e).

b. Add new paragraph (a).

c. Revise paragraph (b).

d. In newly redesignated paragraph (e), remove the words “Manager, Corporate Accounting” and add in their place the words “Records Office” and remove the word “official” and add in its place the words “Records Office is”.

The addition and revision read as follows:

§ 262.2 Officials.

(a) Chief Privacy Officer. The Chief Privacy Officer (CPO) is responsible for the issuance of policy on the protection of privacy and the release of Postal Service records with the power to authorize the disclosure of such records and to delegate or take appropriate action if that policy is not adhered to or if questions of interpretation or procedure arise. The CPO directs the activities of the Privacy Office and the Records Office.

(b) Manager, Records Office. The Manager, Records Office, manages the Records Office, and is responsible for establishing procedures and guidelines to ensure that record management practices are in compliance with the Privacy Act and FOIA. The Manager, Records Office, may also delegate or take appropriate action if policies are not adhered to or if questions of interpretation or procedures arise.

* * * * *

§ 262.4 [Amended]

8. Amend § 262.4 as follows:

a. In paragraph (a), remove the words “office of Corporate Accounting” and add in their place the words “Records Office”.

b. In paragraph (b), first sentence, remove the words “office of Corporate Accounting” and add in their place the words “Records Office”.

§ 262.5 [Amended]

9. In § 262.5, paragraph (d)(2), last sentence, remove the words “office of Administration and FOIA” and add in their place the words “Records Office”.

PART 263—[AMENDED]

10. The authority citation for 39 CFR Part 263 continues to read as follows:

Authority: 39 U.S.C. 401.

§ 263.3 [Amended]

11. Amend § 263.3 as follows: In paragraph (a), remove the words “The Office of Corporate Accounting” and add in their place the words “Records Office”.

§ 263.4 [Amended]

12. In § 263.4, remove the words “Corporate Accounting” and add in their place the words “the Records Office”.

§ 263.5 [Amended]

13. Amend § 263.5 as follows:

a. Remove the words “Corporate Accounting” and add in their place the words “Records Office”.

b. Remove the digits “5240”.

c. Remove the words “to the Records Specialist”.

d. Remove the digits “4869” and add in their place the digits “2608”.

PART 264—[AMENDED]

14. The authority citation for part 264 continues to read as follows:

Authority: 39 U.S.C. 401.

§ 264.3 [Amended]

15. In § 264.3, paragraph (a), remove the words “Corporate Accounting” from both the heading and the first sentence, and add in their place the words “Records Office”.

PART 265—[AMENDED]

16. The authority citation for part 265 continues to read as follows:

Authority: 5 U.S.C. 552; 5 U.S.C. App. 3; 39 U.S.C. 401, 403, 410, 1001, 2601.

§ 265.3 [Amended]

17. Amend § 265.3 as follows:

a. In paragraph (a), remove the words “§ 262.2 (a)” and add in their place the words “§ 262.2 (c)”.

b. In paragraph (b), remove the words “Freedom of Information/Privacy Acts Officer. The USPS Freedom of Information/Privacy Acts Officer, under the Manager, Administration and FOIA” and add in their place the words “Manager, Records Office. The Postal Service Manager, Records Office, under the Privacy Office”.

§ 265.4 [Amended]

18. Amend § 265.4 as follows:

a. Remove the words “USPS Freedom of Information/Privacy Acts Officer” and add in their place the words “Manager, Records Office”.

b. Remove the digits “5202”.

§ 265.5 [Amended]

19. In § 265.5, remove the designation “.gov” and add in its place the designation “.com/foia”.

§ 265.6 [Amended]

20. Amend § 265.6 as follows:

a. In paragraph (b), introductory text, remove the words “office of Administration and FOIA” and add in their place the words “Records Office”.

b. In paragraph (b)(3)(ii), remove the words “940 of the Domestic Mail Manual (DMM)” and add in their place the words “R900 of the Domestic Mail Manual (DMM)”.

c. In paragraph (d)(1), first sentence, remove the words “upon payment of the fee prescribed in § 265.9 (e)(3) and (g)(5),”.

d. In paragraph (d)(1), first sentence, remove the reference “(d)(4)” and add in its place the reference “(d)(5)”.

e. In paragraph (d)(1), third sentence, remove the references “(d)(4)(i), (d)(4)(iii), or (d)(4)(iv)” and add in their place the references “(d)(5)(i), (d)(5)(iii), or (d)(5)(iv)”.

f. In paragraph (d)(1), remove last sentence.

g. In paragraph (d)(4)(i), remove the references “(d)(3)(iii)”, “(d)(4)(i)”, and “(d)(4)(iii)” and add in their place the references “(d)(4)(iii)”, “(d)(5)(i)”, and “(d)(5)(iii)”, respectively.

h. In paragraph (d)(4)(ii), remove the references “(d)(3)(iii)”, “(d)(4)(i)”, and “(d)(4)(iii)” and add in their place the references “(d)(4)(iii)”, “(d)(5)(i)”, and “(d)(5)(iii)”, respectively.

i. In paragraph (d)(5)(ii)(F), remove the references “(d)(4)(i), (d)(4)(iii), or (d)(4)(iv)” and add in their place the references “(d)(5)(i), (d)(5)(iii), or (d)(5)(iv)”.

j. In paragraph (d)(5)(iv), remove the reference “(d)(4)(i)” and add in its place the reference “(d)(5)(i)”.

k. In paragraph (d)(9)(i), remove the references “(d)(4)(i) and (d)(4)(iii)” and add in their place the references “(d)(5)(i) and (d)(5)(iii)”.

§ 265.7 [Amended]

21. Amend § 265.7 as follows:

a. In paragraph (a)(2), remove the words “USPS Freedom of Information/Privacy Acts Officer” and add in their place the words “Manager, Records Office”.

b. In paragraph (a)(2), remove the digits “5202”.

c. In paragraph (a)(2), last sentence, remove the words “office of Administration and FOIA” and add in their place the words “Records Office”.

§ 265.9 [Amended]

22. Amend § 265.9 as follows:

a. In paragraph (b)(1)(i), remove the words “each quarter hour spent by clerical personnel in searching for records is $4.40. When a search cannot be performed by clerical personnel and must be performed by professional or managerial personnel, the fee for each quarter hour in searching for records is $5.35.” and add in their place the words “a manual search is $32 per hour (fractions of an hour are rounded to the nearest half hour)”.

b. In paragraph (b)(1)(ii), first sentence, remove the words “runs and operator salary, as calculated in accordance with the Information Services Price List” and add in their place the words “and personnel cost”.

c. In paragraph (b)(1)(ii), second sentence and last sentence, remove the words “list is” and add in their place the words “fees are”.

d. In paragraph (b)(2)(ii), remove the words “office of Administration and FOIA” and add in their place the words “Records Office”.

e. In paragraph (b)(2)(iii), remove the phrase “the per-page fee shall be charged” and add the phrase “the $.15 per-page fee shall be charged”; and

f. In paragraph (b)(2)(iii), add to the third sentence the words “or her” following the word “his”.

g. In paragraph (b)(3), remove the first two sentences and add one new sentence in its place.

h. Remove paragraph (e)(3).

i. In paragraph (g)(1), remove the words “Fees shall not be” and add in their place the words “No fees shall be”.

j. In paragraph (g)(1), remove the last sentence.

k. In paragraph (g)(2)(i), second sentence, remove the words “the standard rates set out in the Information Services Price List” and add in their place the words “fee for computer searches”.

l. In paragraph (g)(2)(i), last sentence, remove the words “(including the cost of equipment use and operator's time) reaches the equivalent dollar amount of the operator's basic rate for two hours plus a factor to cover benefits.” and add in their place the words “(including the cost of personnel and computer processing time) reaches the equivalent dollar amount of personnel fees for 2 hours.”

m. In paragraph (g)(4), remove the words “office of Administration and FOIA” and add in their place the words “Manager, Records Office”.

n. Revise paragraph (g)(5).

The revision reads as follows:

§ 265.9 Schedule of fees.

(b) * * *

(3) * * * The fee for reviewing records located in response to a commercial use request is $32 per hour (fractions of an hour are rounded to the nearest half hour).

* * * * *

(g) * * *

(5) Fee for other services. Waivers do not apply for fees for address correction services performed in accordance with section R900 of the Domestic Mail Manual.

* * * * *

§ 265.10 [Amended]

23. In § 265.10, last sentence, remove the word “.gov” and add in its place the words “.com/foia”.

§ 265.12 [Amended]

24. Amend § 265.12 as follows:

a. In paragraph (b)(7), remove the words “Freedom of Information/Privacy Acts Officer” and add in their place the words “Manager, Records Office”.

b. In paragraph (b)(7), remove the digits “5202”.

25. Revise Appendix A to read as follows:

Appendix A to Part 265—Fees for Computer Searches

When requested information must be retrieved by computer, fees charged to the requester are based on rates for personnel and computer time. Estimates are provided to the requester in advance and are based on the following rates:

| Price | Unit
Personnel:
High technical | $120 | per hour.
Medium technical | 70 | per hour.
Low technical | 50 | per hour.
Computer Processing:
Mainframe usage | .39 | per second.
Midrange server usage | .06 | per second.
PC usage | 7.00 | per 15 minutes.
Printing computer output | .14 | per page.
Magnetic tape production | 24.00 | per volume.

PART 266—[AMENDED]

26. The authority citation for part 266 continues to read as follows:

Authority: 5 U.S.C. 552a; 39 U.S.C. 401.

§ 266.3 [Amended]

27. Amend § 266.3 as follows:

a. In paragraph (a), remove the words “Freedom of Information/Privacy Acts Officer. The USPS Freedom of Information/Privacy Acts Officer, under the Manager, Administration and FOIA” and add in its place the words “Records Office. The Records Office, within the Privacy Office”.

b. In paragraph (c) remove the words “office of Administration and FOIA” and add in their place the words “Records Office”.

c. In paragraph (d)(2) remove the words “Manager, Administration and FOIA” and add in their place the words “Chief Privacy Officer”.

d. Revise paragraphs (d)(2)(i) through (vi) to read as follows:

§ 266.3 Responsibility.

* * * * *

(d) * * *

(2) * * *

(i) Vice President and Consumer Advocate (Chairman).

(ii) Chief Postal Inspector.

(iii) Inspector General.

(iv) Senior Vice President, Human Resources.

(v) Vice President, General Counsel.

(vi) Chief Privacy Officer.

§ 266.4 [Amended]

28. In § 266.4, paragraph (b)(6)(i),(iii) and (iv), remove the words “Freedom of Information/Privacy Acts Officer” and add in their place the words “Manager, Records Office”.

§ 266.5 [Amended]

29. In § 266.5, paragraph (d), remove the words “office of Administration and FOIA” and add in their place the words “Records Office”.

§ 266.6 [Amended]

30. Amend § 266.6 as follows:

a. In paragraph (a), first sentence, remove the words “Freedom of Information/Privacy Acts Officer” and add in their place the words “Manager, Records Office”.

b. In paragraph (a), remove the digits “5202”.

c. In paragraph (d), remove the words “Freedom of Information/Privacy Acts Officer” and add in their place the words “Manager, Records Office”.

§ 266.7 [Amended]

31. In § 266.7, paragraph (a)(4), last sentence, remove the words “office of Administration and FOIA” and add in their place the words “General Counsel”.

§ 266.8 [Amended]

32. In § 266.8, paragraph (b)(3), second sentence, remove the words “the per page fee” and add in their place the words “$.15 per page fee”.

§ 266.10 [Amended]

33. Amend § 266.10 as follows:

a. In paragraph (a), first sentence, paragraph (b), second sentence, paragraph (c), and paragraph (d)(2), remove the words “USPS Freedom of Information/Privacy Acts Officer” and add in their place the words “Postal Service Manager Records Office”.

b. In § 266.10, paragraph (a), fourth sentence, paragraph (b), last sentence, and paragraph (d), second sentence, remove the words “Freedom of Information/Privacy Acts Officer” and add in their place the words “Manager, Records Office”.

PART 267—[AMENDED]

34. The authority citation for part 267 continues to read as follows:

Authority: 39 U.S.C. 401; Pub. L. 93-579, 88 Stat. 1896.

§ 267.3 [Amended]

35. In § 267.3, paragraph (a) introductory text, remove the words “Freedom of Information/Privacy Acts Officer” from both the heading and the first sentence, and add in their place the words “Chief Privacy Officer”.

§ 267.5 [Amended]

36. Amend § 267.5 as follows:

a. In paragraph (e)(3)(i), remove the words “Manager, Administration and FOIA” and add, in their place, the words “Manager, Records Office”.

b. In paragraph (e)(3)(i), remove the digits “5202”.

PART 268—[AMENDED]

37. The authority citation for part 268 continues to read as follows:

Authority: 39 U.S.C. 401; 5 U.S.C. 552a.

§ 268.1 [Amended]

38. In § 268.1, paragraph (b), second sentence, remove the words “Freedom of Information/Privacy Acts Officer” and add in their place the words “Manager, Records Office”.

Neva R. Watson,
Attorney, Legislative.

[FR Doc. 03-24914 Filed 9-30-03; 8:45 am]

BILLING CODE 7710-12-U